CORPORATION FOR NATIONAL AND COMMUNITY SERVICE

45 CFR Part 2584

RIN 3045-AA60

Protection of Human Subjects

AGENCY: Corporation for National and Community Service.

ACTION: Final rule; correction.

SUMMARY: The Corporation for National and Community Service (operating as AmeriCorps) is correcting a final rule that appeared in the Federal Register on October 29, 2024. These corrections do not include any substantive changes to the final rule. The final rule adopted the Federal Policy for Protection of Human Subjects (referred to as the Common Rule).

DATES: Effective on November 29, 2024.

FOR FURTHER INFORMATION CONTACT: Mary Hyde, Ph.D., Director, AmeriCorps Office of Research and Evaluation, at (202) 606-6834 or mhyde@americorps.gov.

SUPPLEMENTARY INFORMATION: In FR Doc. 2024-24517 beginning on page 85870 in the Federal Register of October 29, 2024, the following corrections are made:

§ 2584.102 [Corrected]

1. Beginning on page 85870, in the third column, and continuing onto page 85871, in the first and second columns, correct § 2584.102 by removing the paragraph designations (f) through (m).

§ 2584.103 [Corrected]

2. On page 85871, in the second column, the section number “2558.103” in the section heading is corrected to read “2584.103”.

§ 2584.104 [Corrected]

3. On page 85873, in the first column, in § 2584.104(d)(8)(i), the language “§ 2584.116(a)(1) through (4) and (6) and (d)” is corrected to read “§ 2584.116(a)(1) through (4), (a)(6), and (d)”.

§ 2584.111 [Corrected]

4. On page 85874, in the second column, the section number “2258.111” in the section heading is corrected to read “2584.111” and on page 85874, in the third column, in § 2584.111(a)(8)(i), the language “§ 2584.116(a)(1) through (4) and (6) and (d)” is corrected to read “§ 2584.116(a)(1) through (4), (a)(6), and (d)”.

§ 2584.113 [Corrected]

5. On page 85875, in the first column, the section number “2258.113” in the section heading is corrected to read “2584.113”.

Andrea Grill,
Acting General Counsel.

[FR Doc. 2024-25881 Filed 11-6-24; 8:45 am]

BILLING CODE 6050-28-P